ENVIRONMENTAL PROTECTION AGENCY

[EPA-HQ-OPP-2009-0879; FRL-9341-4]

Exposure Modeling Public Meeting; Notice of Public Meeting

AGENCY: Environmental Protection Agency (EPA).

ACTION: Notice.

SUMMARY: An Exposure Modeling Public Meeting (EMPM) will be held for one day on March 20, 2012. This notice announces the location and time for the meeting and sets forth the tentative agenda topics.

DATES: The meeting will be held on March 20, 2012, from 9 a.m. to 4 p.m. Requests to participate in the meeting must be received on or before March 19, 2012.

To request accommodation of a disability, please contact the person listed under FOR FURTHER INFORMATON CONTACT, preferably at least 5 days prior to the meeting, to give EPA as much time as possible to process your request.

ADDRESSES: The meeting will be held at the Environmental Protection Agency, Office of Pesticide Programs (OPP), One Potomac Yard (South Building), Fourth Floor Conference Center (S-4370-80), 2777 S. Crystal Drive, Arlington, VA 22202.

FOR FURTHER INFORMATION CONTACT: Katrina White, Environmental Fate and Effects Division (7507P), Office of Pesticide Programs, Environmental Protection Agency, 1200 Pennsylvania Ave. NW., Washington, DC 20460-0001; telephone number: (703) 308-4536; fax number: (703) 305-6309; email address: white.katrina@epa.gov.

SUPPLEMENTARY INFORMATION:

I. General Information

A. Does this action apply to me?

You may be potentially affected by this action if you are required to conduct testing of chemical substances under the Toxic Substances Control Act, the Federal Food, Drug, and Cosmetic Act, or the Federal Insecticide, Fungicide, and Rodenticide Act. Since other entities may also be interested, the Agency has not attempted to describe all the specific entities that may be affected by this action.

If you have any questions regarding the applicability of this action to a particular entity, consult the person listed under FOR FURTHER INFORMATION CONTACT.

B. How can I get copies of this document and other related information?

EPA has established a docket for this action under docket ID number EPA-HQ-OPP-2009-0879. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. Background

On a biannual interval, an EMPM will be held for presentation and discussion of current issues related to modeling pesticide fate, transport, and exposure of risk assessment in a regulatory context. Meeting dates and abstract requests are announced through the “empmlist” forum on the LYRIS list server at: https://lists.epa.gov/read/all_forums/.

III. How can I request to participate in this meeting?

You may submit a request to participate in this meeting to the person listed under FOR FURTHER INFORMATION CONTACT. Do not submit any information in your request that is considered Confidential Business Information. Requests to participate in the meeting, identified by docket ID number EPA-HQ-OPP-2009-0879, must be received on or before March 19, 2012.

IV. Tentative Topics for the Meeting

• North American Free Trade Agreement Guidance for Calculating Degradation Kinetics in Environmental Media

• Pesticide Root Zone Model—Ground Water (PRZM-GW) Update

• Measuring and Estimating Concentrations in Drinking Water: A Historical Perspective

• Improved Characterization of the Temporal and Spatial Variability of Potential Surface Water Drinking Water Exposure by Using Environmental and Historic Monitoring Databases

• Estimating Upper Centrile Pesticide Concentrations and Sample Size Requirement

• Estimation of Upper Percentiles of Chlorpyrifos Surface Water Concentration from Yearly Monitoring Program Data

• Sampling Plans for Water Quality Assessment

• Update on Development of Drinking Water Intake Watershed PCAs

• Exposure Assessment for Pronamide Drinking Water Residues in California Central Coast Lettuce Production Areas

• Hybrid PRZM: “Filling in the Gaps” in Field Sampling Data Using Realistic Simulation Modeling

List of Subjects

Environmental protection, Degradation kinetics, Exposure assessment, Pesticide models, Pronamide, PRZM, Watershed PCAs.

Dated: March 7, 2012.
D.J. Brady,
Director, Environmental Fate and Effects Division, Office of Pesticide Programs.

[FR Doc. 2012-6051 Filed 3-13-12; 8:45 am]

BILLING CODE 6560-50-P